DEPARTMENT OF ENERGY

Federal Energy Regulatory Commission

Combined Notice of Filings #1

Take notice that the Commission received the following electric corporate filings:

Docket Numbers: EC11-46-000.

Applicants: Milford Wind Corridor Phase II, LLC, Milford II Holdings, LLC.

Description: Application of Milford Wind Corridor Phase II, LLC, et al. for Authorization of Disposition of Jurisdictional Facilities.

Filed Date: 03/04/2011.

Accession Number: 20110304-5156.

Comment Date: 5 p.m. Eastern Time on Friday, March 25, 2011.

Docket Numbers: EC11-47-000.

Applicants: Liberty Energy Utilities (New Hampshire), Granite State Electric Company.

Description: Joint Application for Authorization for Disposition of Jurisdictional Assets Under Section 203 of the Federal Power Act of Granite State Electric Company and Liberty Energy Utilities (New Hampshire) Corp.

Filed Date: 03/04/2011.

Accession Number: 20110304-5211.

Comment Date: 5 p.m. Eastern Time on Friday, March 25, 2011.

Take notice that the Commission received the following electric rate filings:

Docket Numbers: ER97-4143-024; ER11-46-001; ER10-2975-001; ER98-542-026; ER10-727-002.

Applicants: American Electric Power Service Corporation.

Description: Revised Appendix B per FERC Staff request of American Electric Power Service Corporation.

Filed Date: 03/07/2011.

Accession Number: 20110307-5012.

Comment Date: 5 p.m. Eastern Time on Monday, March 28, 2011.

Docket Numbers: ER05-644-012.

Applicants: PSEG Energy Resources & Trade LLC, PSEG Fossil LLC.

Description: PSEG Companies submits their Compliance Filing Pursuant to the Commission's order issued on February 2, 2011.

Filed Date: 03/04/2011.

Accession Number: 20110304-5210.

Comment Date: 5 p.m. Eastern Time on Friday, March 25, 2011.

Docket Numbers: ER10-1828-001; ER10-1829-001; ER10-1830-001; ER10-1831-001; ER10-1869-001; ER10-1832-001; ER10-1833-001; ER10-1834-001; ER10-1835-001; ER10-1702-001; ER10-1727-001; ER10-1713-001; ER10-2144-001; ER10-1726-001; ER10-1671-001; ER10-3143-001.

Applicants: Sabine Cogen, LP, GenOn Bowline, LLC, GenOn Canal, LLC, GenOn Delta, LLC, GenOn Kendall, LLC, GenOn Potrero, LLC, GenOn Power Midwest, LP, GenOn REMA, LLC, GenOn Energy Management, LLC, GenOn Chalk Point, LLC, GenOn Mid-Atlantic, LLC, GenOn Potomac River, LLC, GenOn Florida, LP, GenOn West, LP, GenOn Wholesale Generation, LP, RRI Energy Services, LLC.

Description: Supplement to Notification of Change in Status and Triennial Updated Market Power Analysis for the Northeast Region.

Filed Date: 03/04/2011.

Accession Number: 20110304-5213.

Comment Date: 5 p.m. Eastern Time on Tuesday, May 3, 2011.

Docket Numbers: ER10-2670-001; ER10-2669-001; ER10-2671-001; ER10-2673-001; ER10-2253-001; ER10-3319-002; ER10-2674-001; ER10-1543-001; ER10-1544-001; ER10-2627-001; ER10-2629-001; ER10-1546-002; ER11-1933-001; ER10-1547-001; ER10-1549-001; ER10-2675-001; ER10-2676-001; ER10-2636-001; ER10-1975-001; ER10-1974-001; ER10-1550-002; ER11-2424-002; ER10-2677-001; ER10-1551-001; ER10-2678-001; ER10-2638-001.

Applicants: ANP Blackstone Energy Company, LLC, ANP Bellingham Energy Company, LLC, ANP Fund I, LLC, Armstrong Energy Limited Partnership, L.L.L.P., Astoria Energy, LLC, Astoria Energy II, LLC, Calumet Energy Team, LLC, Choctaw Gas Generation, LLC, Choctaw Generation Limited Partnership, FirstLight Hydro Generating Corporation, FirstLight Power Resources Management, LLC, GDF SUEZ Energy Marketing NA, Inc., Green Mountain Power Corporation, Hopewell Cogeneration Limited Partnership, Hot Spring Power Company, LLC, IPA Trading, Inc., Milford Power Limited Partnership, Mt. Tom Generating Company, LLC, North Jersey Energy Associates, A Limited Partnership, Northeast Energy Associates, L.P., Northeastern Power Company, Pinetree Power—Tamworth, Inc., Pleasants Energy, LLC, Syracuse Energy Corporation, Troy Energy, LLC, Waterbury Generation LLC.

Description: Notice of Change in Status of the GDF SUEZ Companies with Respect to the Market-Based Rate Authority of Each.

Filed Date: 03/04/2011.

Accession Number: 20110304-5236.

Comment Date: 5 p.m. Eastern Time on Friday, March 25, 2011.

Docket Numbers: ER11-2378-002.

Applicants: Consolidated Edison Energy, Inc.

Description: Consolidated Edison Energy, Inc. submits tariff filing per 35: Supplemental Information Filing #2 Order 697 Compliance Filing to be effective 1/1/2011.

Filed Date: 03/04/2011.

Accession Number: 20110304-5123.

Comment Date: 5 p.m. Eastern Time on Friday, March 25, 2011.

Docket Numbers: ER11-2520-001.

Applicants: Pacific Northwest Generating Cooperative, Inc.

Description: Pacific Northwest Generating Cooperative, Inc. submits tariff filing per 35: Triennial Market Power Update to be effective 12/21/2010.

Filed Date: 03/04/2011.

Accession Number: 20110304-5140.

Comment Date: 5 p.m. Eastern Time on Tuesday, May 3, 2011.

Docket Numbers: ER11-2700-002.

Applicants: Midwest Independent Transmission System Operator, Inc.

Description: Midwest Independent Transmission System Operator, Inc. submits tariff filing per 35.17(b): 03-04-11 CMMPA amendment to be effective 7/28/2010.

Filed Date: 03/04/2011.

Accession Number: 20110304-5209.

Comment Date: 5 p.m. Eastern Time on Friday, March 25, 2011.

Docket Numbers: ER11-3019-000.

Applicants: Greenbelt Energy.

Description: Greenbelt Energy submits tariff filing per 35.1: Greenbelt Energy Baseline Tariff to be effective 3/4/2011.

Filed Date: 03/04/2011.

Accession Number: 20110304-5133.

Comment Date: 5 p.m. Eastern Time on Friday, March 25, 2011.

Docket Numbers: ER11-3020-000.

Applicants: Front Range Power Company, LLC.

Description: Front Range Power Company, LLC submits tariff filing per 35.15: Cancellation of MBR Tariff to be effective 3/4/2011.

Filed Date: 03/04/2011.

Accession Number: 20110304-5161.

Comment Date: 5 p.m. Eastern Time on Friday, March 25, 2011.

Docket Numbers: ER11-3021-000.

Applicants: Massachusetts Electric Company.

Description: Massachusetts Electric Company submits tariff filing per 35.1: Borderline Sales Tariff Rate Schedule Update Filing to be effective 3/5/2011.

Filed Date: 03/04/2011.

Accession Number: 20110304-5171.

Comment Date: 5 p.m. Eastern Time on Friday, March 25, 2011.

Docket Numbers: ER11-3022-000.

Applicants: New England Power Company.

Description: New England Power Company submits tariff filing per 35.1: Amendment to Service Agreement No. 6 with Granite State Electric Co. to be effective 12/31/9998.

Filed Date: 03/04/2011.

Accession Number: 20110304-5188.

Comment Date: 5 p.m. Eastern Time on Friday, March 25, 2011.

Docket Numbers: ER11-3023-000.

Applicants: Milford Wind Corridor Phase I, LLC.

Description: Milford Wind Corridor Phase I, LLC submits tariff filing per 35.12: Tenant in Common Agreements to be effective 3/4/2011.

Filed Date: 03/04/2011.

Accession Number: 20110304-5204.

Comment Date: 5 p.m. Eastern Time on Friday, March 25, 2011.

Take notice that the Commission received the following electric securities filings:

Docket Numbers: ES11-14-000.

Applicants: Southwest Power Pool, Inc.

Description: Supplement to December 30, 2010 Application of Southwest Power Pool, Inc.

Filed Date: 03/04/2011.

Accession Number: 20110304-5212.

Comment Date: 5 p.m. Eastern Time on Monday, March 14, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: March 7, 2011.
Nathaniel J. Davis, Sr.,
Deputy Secretary.

[FR Doc. 2011-5752 Filed 3-11-11; 8:45 am]

BILLING CODE 6717-01-P